DEPARTMENT OF HEALTH AND HUMAN SERVICES

National Institutes of Health

Prospective Grant of Exclusive License: Adult Human Dental Pulp Stem Cells, Postnatal Stem Cells, and Multipotent Postnatal Stem Cells From Human Periodontal Ligament

AGENCY: National Institutes of Health, Public Health Service, HHS.

ACTION: Notice.

SUMMARY: This is notice, in accordance with 35 U.S.C. 209(c)(1) and 37 CFR 404.7(a)(1)(i), that the National Institutes of Health (NIH), Department of Health and Human Services (HHS), is contemplating the grant of an exclusive license worldwide to practice the invention embodied in United States issued Patent Number 7,052,907 titled: “Adult Human Dental Pulp Stem Cells in vitro and in vivo” referenced at HHS as E-233-2000/0-US-03 and corresponding foreign patent applications, United States Patent Application Number 10/553,633 titled: “Postnatal Stem Cells and Uses Thereof” referenced at HHS as E-018-2003/0-US-02 and corresponding foreign patent applications, United States Patent Application Number 11/433,627 titled: “Multipotent Postnatal Stem Cells from Human Periodontal Ligament” referenced at DHHS as E-033-2004/0-US-03 and corresponding patent applications, to Angioblast Systems, Inc. having a place of business in the state of New York. The field of use may be limited to the following: FDA or similar foreign body approved therapeutic for (1) regeneration/repair of the periodontal ligament lost from chronic periodontitis, (2) regeneration/repair of dentin/pulp complex lost during deep carious lesions and (3) regeneration/repair of neural networks. The United States of America is the assignee of the patent rights in this invention. The territory may be worldwide.

DATES: Only written comments and/or application for a license, which are received by the NIH Office of Technology Transfer on or before December 17, 2007 will be considered.

ADDRESSES: Requests for a copy of the patent applications, inquiries, comments and other materials relating to the contemplated license should be directed to: Fatima Sayyid, Office of Technology Transfer, National Institutes of Health, 6011 Executive Boulevard, Suite 325, Rockville, MD 20852-3804; Telephone: (301) 435-4521; Facsimile: (301) 402-0220; e-mail: Fatima.Sayyid@nih.hhs.gov.

SUPPLEMENTARY INFORMATION: The prospective exclusive license will be royalty-bearing and will comply with the terms and conditions of 35 U.S.C. 209 and 37 CFR 404.7. The prospective exclusive license may be granted unless, within 60 days from the date of this published Notice, NIH receives written evidence and argument that establishes that the grant of the license would not be consistent with the requirements of 35 U.S.C. 209 and 37 CFR 404.7.

Properly filed competing applications for a license filed in response to this notice will be treated as objections to the contemplated license. Comments and objections submitted in response to this notice will not be made available for public inspection, and, to the extent permitted by law, will not be released under the Freedom of Information Act, 5 U.S.C. 552.

Dated: October 11, 2007.
Steven M. Ferguson,
Director, Division of Technology Development and Transfer, Office of Technology Transfer, National Institutes of Health.

[FR Doc. E7-20520 Filed 10-16-07; 8:45 am]

BILLING CODE 4140-01-P